ENVIRONMENTAL PROTECTION AGENCY

40 CFR Part 300

[FRL-7795-8]

National Oil and Hazardous Substances Pollution Contingency Plan; National Priorities List

AGENCY: Environmental Protection Agency.

ACTION: Notice of intent to delete the Agriculture Street Landfill Superfund Site from the National Priorities List and request for comments.

SUMMARY: The U.S. Environmental Protection Agency (EPA) Region 6 announces its intent to delete the Agriculture Street Landfill Superfund Site (“the site”) from the National Priorities List (NPL) and requests public comment on this proposed action.

The NPL, promulgated pursuant to section 105 of the Comprehensive Environmental Response, Compensation, and Liability Act (CERCLA) of 1980, as amended, constitutes Appendix B of 40 CFR part 300 which is the National Oil and Hazardous Substances Pollution Contingency Plan (NCP). The EPA, in consultation with the State of Louisiana, through the Louisiana Department of Environmental Quality (LDEQ), has determined that the removal action for the site has been successfully executed.

DATES: The EPA will accept comments concerning the proposed deletion of this site until September 3, 2004, and a newspaper of general circulation.

ADDRESSES: Comments may be mailed to: Ms. Janetta Coats, Community Involvement Coordinator, EPA (6SF-PO), 1445 Ross Ave., Dallas, Texas 75202-2733, (214) 665-7308 or 1-800-533-3508 (toll free).

Information Repositories: Comprehensive information on the site has been compiled in a public docket which is available for viewing at the Agriculture Street Landfill Superfund Site information repositories:

EPA Region 6, 7th Floor Reception Area, 1445 Ross Avenue, Suite 1200, Dallas, Texas 75202-2733, (214) 665-6548, Mon.-Fri. 8 a.m. to 4 p.m.

Louisiana Department of Environmental Quality, 602 N. Fifth Street, Public Records Center—Room 127, Baton Rouge, Louisiana 70802, (225) 219-3168, Mon.-Fri. 8 a.m. to 4:30 p.m.

Norman Mayer Gentilly Library Branch, 2098 Foy Street, New Orleans, Louisiana 70122, Mr. Damian Lambert/Branch Manager, (504) 596-2644, Mon & Wed: 10 a.m.-5 p.m., Tue & Thurs: 10 a.m.-6 p.m., Sat: 10 a.m.-5 p.m.

FOR FURTHER INFORMATION CONTACT: Ms. Ursula R. Lennox, Remedial Project Manager, EPA (6SF-LP), 1445 Ross Avenue, Dallas, Texas 75202-2733, (214) 665-6743 or 1-800-533-3508 (Toll Free).

SUPPLEMENTARY INFORMATION:

Table of Contents

I. Introduction

II. NPL Deletion Criteria

III. Deletion Procedures

IV. Basis for Intended Site Deletion

I. Introduction

The U.S. Environmental Protection Agency (EPA) Region 6 announces its intent to delete the Agriculture Street Landfill Superfund Site from the National Priorities List (NPL), Appendix B of the National Oil and Hazardous Substances Pollution Contingency Plan (NCP), Code of Federal Regulations, title 40 (40 CFR), part 300, and requests public comments on the proposed action. The NPL constitutes Appendix B of the NCP, which EPA promulgated pursuant to Section 105 of the Comprehensive Environmental Response, Compensation, and Liability Act (CERCLA) of 1980, as amended. EPA and the Louisiana Department of Environmental Quality (LDEQ) have determined that the removal action for the site has been successfully executed. Operable Units No. 1, 2, and 3 (OU1, OU2, and OU3, the undeveloped property, residential area, and Shirley Jefferson Community Center, respectively) are included in this proposed deletion.

The EPA identifies sites that appear to present a significant risk to public health, welfare, or the environment and maintains the NPL as the list of those sites. As described in § 300.425(e)(3) of the NCP, sites or portions of sites deleted from the NPL remain eligible for remedial actions in the unlikely event that site conditions warrant such action.

The EPA will accept comments concerning its intent to delete the site for thirty (30) days after publication of this notice. The EPA has also published a notice of the availability of this notice of intent to delete in a major newspaper of general circulation at or near the site.

Section II of this notice explains the criteria for deleting sites from the NPL. Section III discusses procedures that EPA is using for this action. Section IV discusses the Agriculture Street Landfill Superfund site and demonstrates how the site meets the deletion criteria.

II. NPL Deletion Criteria

Section 300.425(e) of the NCP provides that releases may be deleted from, or recategorized on the NPL where no further response is appropriate. In making a determination to delete a release from the NPL, EPA shall consider, in consultation with the State, whether any of the following criteria have been met:

i. Responsible parties or other parties have implemented all appropriate response actions required;

ii. All appropriate Fund-financed response under CERCLA has been implemented, and no further action by responsible parties is appropriate; or

iii. The remedial investigation has shown that the release poses no significant threat to public health or the environment and, therefore, taking of remedial measures is not appropriate.

Even if a site is deleted from the NPL, where hazardous substances, pollutants, or contaminants remain at the site above levels that allow for unlimited use and unrestricted exposure, CERCLA section 121(c), 42 U.S.C. 9621(c) requires that a subsequent review of the site be conducted at least every five years after the initiation of the remedial action at the site to ensure that the action remains protective of public health and the environment. If new information becomes available which indicates a need for further action, EPA may initiate remedial actions. Whenever there is a significant release from a site deleted from the NPL, the site may be restored to the NPL without application of the Hazard Ranking System.

In the case of this site, all appropriate Fund-financed response under CERCLA has been implemented, and no further action by responsible parties is appropriate. Consistent with the State Superfund Contract, LDEQ will conduct an annual inspection. EPA has conducted the first five-year review of the site, finding that the response actions implemented are protective of human health and the environment. The EPA may also perform future five-year reviews.

III. Deletion Procedures

The following procedures were used for the intended deletion of the site:

(1) EPA Region 6 issued a Record of Decision on April 4, 2002, which documented that no further remedial action is necessary to ensure protection of human health and the environment for the Agriculture Street Landfill site;

(2) LDEQ, on behalf of the State of Louisiana, concurred by letter dated April 2, 2002, with EPA's decision that no action was necessary for the site. LDEQ stated by letter dated May 11, 2004, that deletion from the NPL was appropriate;

(3) A notice has been published in the local newspaper and has been distributed to appropriate Federal, State, and local officials and other interested parties announcing the availability of the notice of intent to delete and the commencement of a 30-day public comment period; and,

(4) EPA placed copies of documents supporting the proposed deletion in the site information repositories identified above.

Deletion of a site from the NPL does not itself create, alter, or revoke any individual's rights or obligations. The NPL is designed primarily for informational purposes and to assist Agency management. As mentioned in section II of this notice, section 300.425(e)(3) of the NCP states that the deletion of a site from the NPL does not preclude eligibility for future response actions, should future conditions warrant such actions.

This Federal Register notice, and a concurrent notice in a newspaper of record, announce the initiation of a thirty (30) day public comment period and the availability of the notice of intent to delete. The public is asked to comment on EPA's proposal to delete the site from the NPL. All critical documents needed to evaluate EPA's decision are included in the Deletion Docket and are available for review at the information repositories.

Upon completion of the thirty (30) day public comment period, EPA will evaluate all comments received before issuing the final decision on the deletion. The EPA will prepare a Responsiveness Summary for comments received during the public comment period and will address concerns presented in the comments. The Responsiveness Summary will be made available to the public at the information repositories listed previously, and members of the public are encouraged to review it. If, after review of all public comments, EPA determines that the deletion from the NPL is appropriate, EPA will publish a final notice of deletion in the Federal Register. Deletion of the site does not actually occur until the final notice of deletion is published in the Federal Register.

IV. Basis for Intended Site Deletion

The following information provides the Agency's rationale for the proposal to delete the site from the NPL and EPA's finding that the criteria in 40 CFR 300.425(e) are satisfied.

A. Site Location

The Agriculture Street Landfill Superfund Site (site) covers approximately 95 acres and is located in the eastern section of the city of New Orleans. The site is bound on the north by Higgins Boulevard, and on the south and west by the Southern Railroad rights-of-way. The eastern site boundary extends from the cul-de-sac at the southern end of Clouet Street, near the railroad tracks, to Higgins Boulevard between Press and Montegut streets. Approximately 48 acres are undeveloped property. The other 47 acres are developed with multiple- and single-family residences, commercial properties, a community center, and a school.

To effectively investigate and develop alternatives for the remediation of the site, EPA divided the site into five operable units (OUs):

• OU1—The undeveloped (currently fenced-in) property;

• OU2—The residential development which consists of the Gordon Plaza Apartments (128 units), 7 retail businesses, 67 single family dwellings in Gordon Plaza subdivision, and the Press Park town homes (179 properties);

• OU3—Shirley Jefferson Community Center (formerly known as Press Park Community Center);

• OU4—Moton Elementary School which includes Mugrauer Playground; and,

• OU5—Groundwater.

B. Site Background and History

The Agriculture Street Landfill was a municipal waste landfill operated by the City of New Orleans. Operations at the site began in approximately 1909 and continued until the landfill was closed in the late 1950's. The landfill was reopened for approximately one year in 1965 for use as an open burning and disposal area for debris left in the wake of Hurricane Betsy. Records indicate that during its operation the landfill received municipal waste, ash from the city's incineration of municipal waste, and debris and ash from open burning. There is no evidence that industrial or chemical wastes were ever transported to, or disposed of at, the site.

From the 1970's through the late 1980's, approximately 47 acres of the site were developed for private and public uses that included: Private single-family homes, multiple-family private and public housing units, Shirley Jefferson Community Center, a recreation center, retail businesses, the Moton Elementary School, and an electrical substation. The remaining 48 acres of the former landfill are currently undeveloped and covered with vegetation. Previous investigations on the undeveloped property have indicated the presence of hazardous substances, pollutants, or contaminants at concentrations above background and/or regulatory levels.

In 1986, EPA Region 6 conducted a Site Inspection and prepared a Hazard Ranking System (HRS) documentation record package utilizing the 1982 HRS model. The site score was not sufficient for the site to be considered for proposal and inclusion on the NPL. Pursuant to the requirements of the Superfund Amendments and Reauthorization Act of 1986 (SARA), which amended the original Superfund legislation, EPA published a revised HRS model on December 14, 1990. At the request of area community leaders, EPA initiated, in September 1993, an Expanded Site Inspection (ESI) to support the preparation of an updated HRS documentation record package that would evaluate the site's risks using the revised HRS model. Subsequently, on August 23, 1994, the site was proposed for inclusion on the NPL as part of NPL update No. 17, and on December 16, 1994, EPA placed the site on the NPL.

Prior to 1994, access to OU1, the undeveloped portion of the former landfill, was unrestricted, allowing unauthorized waste disposal and exposure to contaminants of potential concern such as lead, arsenic and carcinogenic polynuclear aromatic hydrocarbons (cPAHs) found in the surface and subsurface soils. In a time-critical removal action, initiated in March 1994, EPA installed an 8-foot-high, chain-link fence topped with barbed wire around the entire undeveloped portion of the former landfill.

Concurrent with the time-critical removal action, EPA performed a Remedial Removal Integrated Investigation (RRII) of the entire site. RRII fieldwork was conducted from April 4 through June 20, 1994. A total of 1,600 samples of surface and subsurface soil, sediment, surface water, groundwater, air, dust, tap water, garden produce, and paint chips collected during the field investigation were submitted to specialized laboratories for analysis. Aerial photographs, geophysical investigations and computer modeling were used to supplement the analytical data in defining site boundaries and evaluating migration pathways. These data were also used to prepare the Human Health Risk Assessment and the Ecological Risk Assessment.

In the 1995 Risk Assessment, risks were evaluated using current site conditions at all five operable units for four receptors: residents (adult and children), workers, and trespassers. Health risks were evaluated for the developed portions of the former landfill—the residential area (including 33 randomly selected study group residences) and the Shirley Jefferson Community Center—as well as for the undeveloped portion of the site. Current and potential future exposure route scenarios included ingestion of soil, homegrown produce, and ground water; dermal contact with soil and ground water; inhalation of contaminants in soil, and in indoor and outdoor air; and inhalation of volatile contaminants in ground water. The risk assessment was conducted for both carcinogenic and noncarcinogenic health effects, evaluating landfill-related contaminants as well as non-site related contaminants (e.g., garden pesticides, chloroform in indoor air, etc.). In addition, the IEUBK model was used to evaluate the potential for health effects from lead.

The 1995 Human Health Risk Assessment for the site determined that of all the chemicals detected, lead was the only chemical of concern that exceeded the threshold levels for protectiveness of human health in a current land use scenario. The risks from all other chemicals were within the acceptable risk range or below levels of concern.

Based on information presented in the RRII report, EPA conducted a second time-critical removal action at the site in February 1995, and performed confirmational air and groundwater sampling. Through this sampling event, EPA was able to obtain a second round of analyses of the groundwater, to clarify earlier identified ambient air contaminants, and to verify composition and magnitude of indoor air contaminants. In 1995, EPA prepared an Engineering Evaluation and Cost Analysis examining response action alternatives for Operable Units 1-3.

On September 2, 1997, the EPA Region 6 signed a Record of Decision (ROD) and an Action Memorandum to achieve a comprehensive remedy for the site that was protective of public health and the environment. The ROD concluded that no further action was required at OU4 and OU5, and recommended that both operable units be deleted from the NPL. The Action Memorandum provided a permanent solution to all of the site's contamination problems found on OU1, OU2 and OU3.

A Notice of Intent for Partial Deletion of OU4 and OU5 from the NPL was published in the Federal Register on February 7, 2000. A 30-day public comment period on the Notice of Intent for Partial Deletion started February 7, 2000, and concluded March 17, 2000. The Notice for Partial Deletion of OU4 and OU5 was published in the Federal Register on June 15, 2000.

C. Response Actions

The Action Memorandum issued on September 2, 1997, authorized funding for a Non-Time Critical Removal Action on OUs l, 2, and 3. The removal action on OUl consisted generally of clearing the 48-acre area, grading it to direct storm water runoff away from the adjacent residential area, laying a permeable geotextile mat followed with orange fencing (to serve as a highly visible marker), covering the mat/marker with twelve inches of clean fill, and re-establishing a vegetative layer on the clean fill.

The removal action on OU2 and 3 consisted generally of excavating twenty-four inches of soil, placing a permeable geotextile mat/marker in the subgrade, backfilling the excavated area with clean fill, and covering the clean fill with grass sod. In certain areas, surface features such as fences, driveways, sidewalks, etc., were removed in the course of excavation; once the basic excavation and backfill were completed, such surface features were restored or replaced. The selected response action for these operable units is consistent with soil removal and remedial actions performed at residential/industrial properties located on or near Superfund sites.

Numerous attempts were made to encourage the city of New Orleans, which is the primary potentially responsible party (PRP) for this site, to perform or finance site investigations, or provide in-kind services for the response actions planned for OUl, OU2, and OU3. Evidence of this effort is highlighted in the site's Administrative Record. The PRP asserted that it was unable to fund any of the requested actions. As a result, EPA used funds from the Hazardous Substance Superfund to finance the RRII, Engineering Evaluation/Cost Analysis, and all other investigative and response actions.

The removal action was scheduled to start in January 1998, but EPA delayed mobilization until October 1998 to address litigation and additional community concerns. Site work began on OU1, where the highest concentrations of contaminants were found, and at the Gordon Plaza Apartments on OU2. All but one of the property owners on OU1 granted access to EPA, signing standard access agreements. The City of New Orleans, which owned undeveloped street extensions in strips criss-crossing portions of OU1, refused access. After repeated attempts to secure the City's consent for access to conduct the response action, EPA issued a Unilateral Administrative Order to the City of New Orleans on February 25, 1999. The City responded by filing suit against EPA to halt the response action, and secured a temporary restraining order from the U.S. District Court. The City's lawsuit was subsequently dismissed and on April 1, 1999, the district court issued an order in aid of access in favor of EPA.

The removal action continued to completion on OU1 and OU3 and most of OU2. Specifically, within OU2, the removal action was conducted at the Gordon Plaza Apartments, the retail and business area, the Press Park Townhomes, and twenty-five of the single family residences in Gordon Plaza Subdivision. At the conclusion of Phase I site activities, a final site inspection was performed by EPA and LDEQ on February 2, 2000. Approximately 95.5% of the surface area of the site was addressed. The remaining 4.5% consisted of forty-two residential properties whose owners elected not to participate in the removal action.

In June 2000, some of the single family homeowners who had not participated in the removal action expressed concern about problems encountered with transferring contaminated property and requested that EPA consider removal action on additional properties on the site. After review of the work that had already been completed, and an initial assessment of the number of homeowners who might be interested in participating, the EPA re-mobilized to the site in August 2000 to initiate Phase II of the removal action.

As part of community relations activities at the site, EPA designated a Resident Services Manager on-site to field questions, discuss issues, and otherwise attend to residents' concerns during on-site activities. During Phase II of the removal action, EPA, through personal contacts by the Resident Services Manager and through a succession of bulletins and letters to the community, attempted to secure access to the 42 properties upon which the action had not been conducted. Access agreements were accepted at the EPA Command Post, located in the Shirley Jefferson Community Center on-site, throughout most of Phase II of the removal action. By letter of January 2001, EPA notified non-participating homeowners of the projected schedule for demobilization and afforded them one final opportunity to participate, requesting that all access agreements be signed and returned to EPA by January 22, 2001. At the conclusion of Phase II, the non-time critical removal action had been implemented at all but nine residential properties. The EPA and LDEQ performed a final site inspection on April 27, 2001.

At the conclusion of each phase, a Close Out Completion Package was provided to each owner of property in OU1, OU2 or OU3 who participated in the removal action. The package contained:

• A Close Out Letter;

• A Certificate of Completion; and

• Instructions on how to maintain the permeable cap, including instructions for any necessary excavation below the geotextile mat/marker.

Owners of properties that were not part of the response action received a letter and fact sheet from EPA stating that maintaining the surface vegetation will minimize the potential exposure to contaminants in the subsurface soils and will prevent soil erosion.

A Final Close Out Report and ROD for OU1, OU2, and OU3 were signed by EPA in April 2002. The response actions described above were found to have addressed the unacceptable risks posed by site contaminants, and EPA determined that no further action was necessary to protect public health and welfare or the environment for OU1, OU2 and OU3.

D. Cleanup Standards

For purposes of evaluating whether soils in OU1, OU2, and OU3 presented a potential risk, EPA Region 6 Risk Based Concentrations (RBCs) were used as a screening tool to identify areas that may require action. The RBCs were exceeded in many locations in OU1, OU2, and OU3. RBCs are not regulations or guidance; however, they can be used to evaluate potential remedial requirements if the following criteria are met:

• A single medium is contaminated;

• A single contaminant contributes most of the health risk;

• The exposure scenarios used in the development of RBCs are appropriate for the site;

• The fixed risk levels used in the development of RBCs are appropriate for site; and

• Risk to ecological receptors is not expected to be significant.

Although more than one contaminant (arsenic and dioxin) contributed significantly to the potential estimated excess cancer risks for residential receptors at the site, the site met the other criteria listed above. As a result, the Region 6 RBCs were used to evaluate areas requiring potential removal actions. In addition to the RBCs, the level of concern for lead was determined by using the IEUBK model to calculate the concentration of lead in soil that corresponds to a probability of 5% of exposed children exceeding a blood lead level of 10 μ/dL. Arithmetic mean concentrations of household dust samples and tap water samples collected at the study group residences were used as input parameters in the model. Standard default values were used in the model for dietary lead and lead concentrations in air. The model output indicated that a 5% probability of a child exceeding the target blood lead level of 10 μ/dL occurs at a soil lead concentration of 480 mg/kg.

The response action that was implemented at the site:

• Prevents direct and indirect contact, ingestion, and inhalation of soil and waste by a potentially exposed individual and ecological receptors that contain contaminants of potential concerns (COPCs), specifically lead and arsenic, at concentrations that could pose unacceptable risks;

• Prevents the release of COPC-contaminated dust to the air at concentrations that could adversely affect human health and the environment;

• Is protective of human health and the environment; and

• Leaves the site in a condition that permits future use and development.

E. Operation and Maintenance

The potential risk associated with the possible exposure to surface soil contaminants was eliminated through the response action that was implemented on OU1, OU2, and OU3.

All cleanup actions and other response measures identified in the Action Memorandum dated September 2, 1997, were successfully implemented on each OU, with the exception of nine residential properties located in the Gordon Plaza Subdivision (OU2) where access was not granted. The response measures were completed in accordance with the Action Memorandum, the SOW, design documents, and Work Plans formulated to implement the Action Memorandum. The constructed action is operational and performing according to engineering design specifications. Operation and maintenance activities, including maintenance of the cap and vegetative cover, should be continued by each individual property owner with property on OU1, OU2, or OU3. In addition to advising all property owners where response actions had occurred about proper maintenance procedures, EPA coordinated with the utility companies serving the area and conducted a field demonstration of excavation and backfill procedures. Copies of maintenance procedures were provided to property owners and utility companies.

Those property owners who elected not to participate in the response action were instructed to maintain the surface vegetation to minimize the potential exposure to contaminants in the subsurface soils and prevent soil erosion.

F. Five-Year Review

Previous response actions implemented on OU1, OU2, and OU3, have eliminated the need for further remedial response on these operable units. Thus, no further remedial actions for OU1, OU2, and OU3 are necessary to ensure protection of human health and the environment. The selected remedy complies with Federal and State requirements that are applicable or relevant and appropriate to the response action, is cost-effective, and utilizes permanent solutions.

Because hazardous substances, pollutants, or contaminants remain onsite in subsurface soil (below one and two feet), above levels that allow unlimited use and unrestricted exposure, as a matter of policy, EPA conducted a five year review, to ensure that the implemented action is protective of human health and the environment. As a commitment to the community, the first policy five-year review was conducted June 2003. It concluded that the remedy selected for the site remains protective of human health and the environment.

G. Community Involvement

Public participation activities have been satisfied as required in CERCLA section 113(k), 42 U.S.C. 9613(k), and section 117, 42 U.S.C. 9617. Documents in the deletion docket which EPA relied on for recommendation of the deletion from the NPL are available to the public in the information repositories.

H. Applicable Deletion Criteria

One of the three criteria for site deletion specifies that EPA may delete a site from the NPL if “all appropriate Fund-financed response under CERCLA has been implemented, and no further response action by responsible parties is appropriate,” 40 CFR 300.425(e)(1)(ii). The EPA, with concurrence of the State of Louisiana (LDEQ), has determined that the Agriculture Street Landfill site poses no significant threat to public health or the environment; therefore, no further response measures are appropriate. In accordance with EPA policy on deletion of sites listed on the National Priorities List, EPA is proposing deletion of this site from the NPL. Documents supporting this action are available from the docket.

I. State Concurrence

In a letter dated May 11, 2004, the Louisiana Department of Environmental Quality concurred with the proposed deletion of the site from the NPL.

Dated: July 23, 2004.
Richard E. Greene,
Regional Administrator, Region 6.

[FR Doc. 04-17500 Filed 8-3-04; 8:45 am]

BILLING CODE 6560-50-P